NUCLEAR REGULATORY COMMISSION

[NRC-2024-0150]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by October 3, 2024. A request for a hearing or petitions for leave to intervene must be filed by November 4, 2024. This monthly notice includes all amendments issued, or proposed to be issued, from July 19, 2024, to August 15, 2024. The last monthly notice was published on August 6, 2024.

ADDRESSES: You may submit comments by any of the following methods; however, the NRC encourages electronic comment submission through the Federal rulemaking website.

• Federal rulemaking website: Go to https://www.regulations.gov and search for Docket ID NRC-2024-0150. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001; telephone: 301-415-1118; email: Karen.Zeleznock@nrc.gov.

SUPPLEMENTARY INFORMATION:

I. Obtaining Information and Submitting Comments

A. Obtaining Information

Please refer to Docket ID NRC-2024-0150, facility name, unit number(s), docket number(s), application date, and subject when contacting the NRC about the availability of information for this action. You may obtain publicly available information related to this action by any of the following methods:

• Federal Rulemaking Website: Go to https://www.regulations.gov and search for Docket ID NRC-2024-0150.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0150, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Duke Energy Carolinas, LLC; Catawba Nuclear Station, Units 1 and 2; York County, SC
Docket Nos | 50-413, 50-414.
Application date | June 18, 2024.
ADAMS Accession No | ML24170A696.
Location in Application of NSHC | Pages 7-8 of the Enclosure.
Brief Description of Amendments | The proposed amendments would revise Catawba's Units 1 and 2 Technical Specification (TS) 3.4.3, “RCS Pressure and Temperature (P/T) Limits,” to reflect an update to the P/T limit curves in Figures 3.4.3-1 (Unit 2 only) and 3.4.3-2 (Unit 2 only). The proposed amendments will also reflect that the revised Catawba Unit 2 P/T limit curves in TS 3.4.3 are applicable until 54 effective full power years.
Proposed Determination | NSHC.
Name of Attorney for Licensee, Mailing Address | Tracey Mitchell LeRoy, Deputy General Counsel, Duke Energy Corporation, 525 S Tryon Street, Charlotte, NC 28210.
NRC Project Manager, Telephone Number | Jack Minzer Bryant, 301-415-0610.
Entergy Operations, Inc.; Waterford Steam Electric Station, Unit 3; St. Charles Parish, LA
Docket No | 50-382.
Application date | May 8, 2024.
ADAMS Accession No | ML24129A039.
Location in Application of NSHC | Pages 13-14 of the Enclosure.
Brief Description of Amendment | The proposed amendment would change four surveillance frequencies associated with specific Waterford Steam Electric Station, Unit 3 (Waterford 3), technical specifications surveillances, to instead be performed in accordance with the Surveillance Frequency Control Program. These changes were originally intended to have been addressed in the Waterford 3 license amendment request for TSTF-425, “Relocate Surveillance Frequencies to Licensee Control—Risk-Informed Technical Specification Task Force (RITSTF) Initiative 5b” (ADAMS Package Accession No. ML15170A121), dated June 17, 2015.
Proposed Determination | NSHC.
Name of Attorney for Licensee, Mailing Address | Susan Raimo, Associate General Counsel—Nuclear, 101 Constitution Avenue NW, Washington, DC 20001.
NRC Project Manager, Telephone Number | Jason Drake, 301-415-8378.
NextEra Energy Point Beach, LLC; Point Beach Nuclear Plant, Units 1 and 2; Manitowoc County, WI
Docket Nos | 50-266, 50-301.
Application date | July 24, 2024.
ADAMS Accession No | ML24206A109.
Location in Application of NSHC | Pages 2-3 of Enclosure.
Brief Description of Amendments | The proposed amendments would request adoption of Technical Specifications Task Force (TSTF) Traveler, TSTF-577, Revision 1, “Revised Frequencies for Steam Generator Tube Inspections.”
Proposed Determination | NSHC.
Name of Attorney for Licensee, Mailing Address | Steven Hamrick, Senior Attorney, 801 Pennsylvania Ave. NW, Suite 220, Washington, DC 20004.
NRC Project Manager, Telephone Number | Scott Wall, 301-415-2855.
Nine Mile Point Nuclear Station, LLC and Constellation Energy Generation, LLC; Nine Mile Point Nuclear Station, Unit 1; Oswego County, NY
Docket No | 50-220.
Application date | June 13, 2024.
ADAMS Accession No | ML24165A223.
Location in Application of NSHC | Pages 4-5 of Attachment 1.
Brief Description of Amendment | The proposed amendment would modify the Nine Mile Point Nuclear Station, Unit 1 (NMP1) technical specifications (TSs) by adopting Technical Specification Task Force (TSTF)-230, Revision 1, “Add New Condition B to LCO [Limiting Condition for Operation] 3.6.2.3, RHR Suppression Pool Cooling.” The TSTF modifies improved TS (ITS) 3.6.2.3, “Residual Heat Removal (RHR) Suppression Pool Cooling,” to allow two RHR suppression pool cooling subsystems to be inoperable for eight hours. NMP1 does not have ITSs; therefore, the applicable LCO for NMP1 is TS LCO 3.3.7, “Containment Spray System.” Additionally, a new specification is proposed to be added that will direct operators to place the unit in “Shutdown Condition—Hot” within 12 hours and “Shutdown Condition—Cold” in 36 hours if applicable specifications are not met.
Proposed Determination | NSHC.
Name of Attorney for Licensee, Mailing Address | Jason Zorn, Associate General Counsel, Constellation Energy Generation, LLC, 101 Constitution Ave. NW, Suite 400 East, Washington, DC 20001.
NRC Project Manager, Telephone Number | Richard Guzman, 301-415-1030.
Southern Nuclear Operating Company, Inc.; Joseph M. Farley Nuclear Plant, Units 1 and 2; Houston County, AL
Docket Nos | 50-348, 50-364.
Application date | June 28, 2024.
ADAMS Accession No | ML24180A204.
Location in Application of NSHC | Pages E-14 to E-16 of Enclosure.
Brief Description of Amendments | The proposed amendments would modify Joseph M. Farley Nuclear Plant, Units 1 and 2, technical specification requirements related to direct current (DC) electrical systems in accordance with Technical Specifications Task Force (TSTF) Traveler TSTF-500, Revision 2, “DC Electrical Rewrite-Update to TSTF-360.”
Proposed Determination | NSHC.
Name of Attorney for Licensee, Mailing Address | Millicent Ronnlund, Vice President and General Counsel, Southern Nuclear Operating Co., Inc., P.O. Box 1295, Birmingham, AL 35201-1295.
NRC Project Manager, Telephone Number | Zachary Turner 415-6303.
Southern Nuclear Operating Company, Inc.; Vogtle Electric Generating Plant, Units 3 and 4; Burke County, GA
Docket Nos | 52-025, 52-026.
Application date | June 21, 2024.
ADAMS Accession No | ML24173A220.
Location in Application of NSHC | Pages E-9 and E-11 of Enclosure.
Brief Description of Amendments | The proposed amendments would revise the Combined License, Technical Specifications (TS) 3.7.6, “Main Control Room Emergency Habitability System (VES),” Action E and Surveillance Requirement 3.7.6.5, and the Updated Final Safety Analysis Report subsection 6.4.5.3, Air Quality Testing for Vogtle Electric Generating Plant, Units 3 and 4.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 3 and 4; Burke County, GA
Docket Nos | 52-025, 52-026.
Application date | July 25, 2024.
ADAMS Accession No | ML24207A252.
Location in Application of NSHC | Pages E-7 to E-9 of Enclosure.
Brief Description of Amendments | The proposed amendments would revise the Vogtle Electric Generating Plant, Units 3 and 4, Combined License Appendix A Technical Specification 3.7.6, “Main Control Room Emergency Habitability System (VES),” Action A and Surveillance Requirement 3.7.6.6 related to inoperable valves and/or dampers.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Watts Bar Nuclear Plant, Units 1 and 2; Rhea County, TN
Docket Nos | 50-390, 50-391.
Application date | June 25, 2024.
ADAMS Accession No | ML24178A413.
Location in Application of NSHC | Pages E8-E9 of the Enclosure.
Brief Description of Amendments | The proposed amendments would revise Watts Bar, Units 1 and 2, Technical Specification (TS) 3.8.1, “AC [alternating current] Sources—Operating,” by adopting Technical Specification Task Force (TSTF) Traveler TSTF-276-A, Revision 2, “Revise DG [diesel generator] full load rejection test.” Specifically, the proposed amendments would revise the notes to Surveillance Requirement (SR) 3.8.1.9, for the DG single largest load rejection test, SR 3.8.1.10, for the DG full load rejection test, and SR 3.8.1.14, for the DG endurance and margin test, to require that these SRs be performed at a specified power factor of ≤0.9 with clarifications addressing situations when the power factor cannot be achieved. The proposed amendments would also revise SR 3.8.1.10 and SR 3.8.1.14 to remove the surveillance kVAR ranges and modify the note to SR 3.8.1.18 to allow for the surveillance to be performed in Modes 1, 2, 3, or 4 to reestablish operability provided an assessment of plant safety is performed.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Union Electric Company; Callaway Plant, Unit 1; Callaway County, MO
Docket No | 50-483.
Application date | June 6, 2024.
ADAMS Package Accession No | ML24158A521 (Package).
Location in Application of NSHC | Pages 2-4 of the Enclosure.
Brief Description of Amendment | The proposed amendment would adopt Technical Specifications Task Force (TSTF) Traveler TSTF-569, Revision 2, “Revise Response Time Testing Definition,” which is an approved change to the Standard Technical Specifications for Westinghouse pressurized-water reactor nuclear power plants. The proposed changes are related to the purpose and past use of several related topical reports, including WCAP-13632-P-A, Revision 2, “Elimination of Pressure Sensor Response Time Testing Requirements,” and WCAP-14036-P-A, “Elimination of Periodic Protection Channel Response Time Tests,” as applicable to the Callaway Plant, Unit 1. Together, these topical reports justify eliminating response time testing for applicable instrument loops/channels, for all applicable devices/components in the loops/channels, within the reactor trip system and engineered safety features actuation system. The topical reports provided detailed information that forms the basis for the methodology contained in TSTF-569, Revision 2 (ADAMS Accession No. ML19176A034), which provides a means for allowing use of bounding response times (in lieu of being measured) for newer/redesigned components in the applicable instrument loops/channels.
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.
Vistra Operations Company LLC; Davis-Besse Nuclear Power Station, Unit 1; Ottawa County, OH
Docket No | 50-346.
Application date | July 8, 2024.
ADAMS Accession No | ML24191A432.
Location in Application of NSHC | Pages 4-5 of Attachment 1.
Brief Description of Amendment | The proposed amendment would remove the table of contents from technical specification and place it under licensee control.
Proposed Determination | NSHC.
Name of Attorney for Licensee, Mailing Address | Roland Backhaus, Senior lead Counsel-Nuclear, Vistra Corp., 325 7th Street NW, Suite 520, Washington, DC 20004.
NRC Project Manager, Telephone Number | Scott Wall, 301-415-2855.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Constellation Energy Generation, LLC; Limerick Generating Station, Units 1 and 2; Montgomery County, PA
Docket Nos | 50-352, 50-353.
Amendment Date | July 29, 2024.
ADAMS Accession No | ML24204A071.
Amendment Nos | 263 (Unit1), 225 (Unit 2).
Brief Description of Amendments | The amendments revised the technical specifications by replacing automatic main steam isolation valve isolation requirements with a monitoring requirement and a manual shutdown if the turbine enclosure main steam line tunnel temperature exceeds a certain value and main steam line pressure boundary leakage is detected.
Public Comments Received as to Proposed NSHC (Yes/No) | No.
Constellation Energy Generation, LLC; Quad Cities Nuclear Power Station, Units 1 and 2; Rock Island County, IL
Docket Nos | 50-254, 50-265.
Amendment Date | August 8, 2024.
ADAMS Accession No | ML24183A108.
Amendment Nos | 302 (Unit 1), 298 (Unit 2).
Brief Description of Amendments | The amendments adopted Technical Specification Task Force (TSTF) Travelers 505 (TSTF-505), Revision 2, “Provide Risk Informed Extended Completion Times—RITSTF Initiative 4b” and TSTF-591, Revision 0, “Revise Risk Informed Completion Time (RICT) Program.”
Public Comments Received as to Proposed NSHC (Yes/No) | No.
Dominion Energy South Carolina, Inc.; Virgil C. Summer Nuclear Station, Unit 1,Fairfield County, SC
Docket No | 50-395.
Amendment Date | July 31, 2024.
ADAMS Accession No | ML24158A388.
Amendment No | 226.
Brief Description of Amendment | The amendment modified the Virgil C. Summer Nuclear Station (VCSNS) emergency plan by extending emergency response augmentation times; relocating the Emergency Operations Facility and Joint Information Center; defining “Facility Activation” criteria; revising the minimum staffing definition for the Emergency Response Facilities; extending facility activation requirements after declaration of an Alert of higher classification; reorganizing the VCSNS Emergency Plan based on emergency preparedness functions and removing references to chemistry, firefighting, first aid/rescue, and site access control functions while being on shift; and reducing the level at which the dispatch of Offsite Survey Teams are required.
Public Comments Received as to Proposed NSHC (Yes/No) | No.
Dominion Energy South Carolina, Inc.; Virgil C. Summer Nuclear Station, Unit 1, Fairfield County, SC
Docket No | 50-395.
Amendment Date | August 5, 2024.
ADAMS Accession No | ML24180A006.
Amendment No | 227.
Brief Description of Amendment | The amendment modified the Virgil C. Summer Nuclear Station (VCSNS) Technical Specification (TS) Limiting Condition for Operation (LCO) 3.8.3.1, Action C, concerning inoperable Alternating Current Inverters of TS 3/4.8.3. The amendment extends the Allowed Outage Time for VCSNS's TS LCO 3.8.3.1 Action C in the case of an inoperable inverter.
Public Comments Received as to Proposed NSHC (Yes/No) | No.
Duke Energy Progress, LLC; H. B. Robinson Steam Electric Plant, Unit No. 2; Darlington County, SC
Docket No | 50-261.
Amendment Date | August 14, 2024.
ADAMS Accession No | ML24169A271.
Amendment No | 280.
Brief Description of Amendment | The amendment revised Technical Specification (TS) Section 5.7, “High Radiation Area,” consistent with NRC-approved TS Task Force (TSTF) Traveler 258 (TSTF-258-A), Revision 4, “Changes to Section 5.0, Administrative Controls.”
Public Comments Received as to Proposed NSHC (Yes/No) | No.
Duke Energy Progress, LLC; Shearon Harris Nuclear Power Plant, Unit 1; Wake and Chatham Counties, NC
Docket No | 50-400.
Amendment Date | August 14, 2024.
ADAMS Accession No | ML24059A425.
Amendment No | 202.
Brief Description of Amendment | The amendment modified the Technical Specification (TS) Surveillance Requirement (SR) 4.6.1.1 to eliminate the requirement to perform periodic position verification for containment penetrations that are maintained locked, sealed, or otherwise secured closed, and adopted Technical Specifications Task Force (TSTF) Improved Standard TS (ISTS) Change Traveler No. 45 (TSTF-45-A), Revision 2, “Exempt Verification of Containment Isolation Valves that are Not Locked, Sealed, or Other-wise Secured.” The amendment also revised TS 3.3.3.5, “Remote Shutdown System,” to increase the completion time for inoperable Remote Shut-down System components to a time that is more consistent with their safety significance and removed the requirement to submit a Special Report. It also relocated the content in Table 3.3-9, “Remote Shutdown System,” and Table 4.3-6, “Remote Shutdown Monitoring Instrumentation Surveillance Requirements,” in accordance with TSTF-266-A, Revision 3, “Eliminate the Remote Shutdown System Table of Instrumentation and Controls.” Additionally, the amendment updated SR 4.3.1.1, Table 4.3-1, “Reactor Trip System Instrumentation Surveillance Requirements,” to address the application of the Surveillance Frequency Control Program to establish the frequency for performance of the Analog Channel Operational Test of select Reactor Trip System instrumentation. Changes were made to the administrative controls section of the TS to reflect current organizational titles as well as remove reporting requirements that were redundant to existing regulations. The changes reflect requirements consistent with those in NUREG-1431, Revision 5, “Standard Technical Specifications-Westinghouse Plants.”
Public Comments Received as to Proposed NSHC (Yes/No) | No.
Duke Energy Progress, LLC; Shearon Harris Nuclear Power Plant, Unit 1; Wake and Chatham Counties, NC
Docket No | 50-400.
Amendment Date | August 2, 2024.
ADAMS Accession No | ML24213A052.
Amendment No(s) | 201.
Brief Description of Amendment | The amendment extended the completion time of Action a of Technical Specification 3/4.5.1, “Accumulators,” from 1 hour to 24 hours to restore a reactor coolant system accumulator to operable status when declared inoperable due to any reason except not being within the required boron concentration range. The change is consistent with NRC-approved Industry/Technical Specification Task Force (TSTF) Standard Technical Specification Change Traveler TSTF-370, “Risk-Informed Evaluation of an Extension to Accumulator Completion Times for Westinghouse Plants.”
Public Comments Received as to Proposed NSHC (Yes/No) | No.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS; Entergy Operations, Inc.; Arkansas Nuclear One, Unit 2; Pope County, AR
Docket Nos | 50-368, 50-416, 50-458.
Amendment Date | August 13, 2024.
ADAMS Accession No | ML24185A152.
Amendment Nos | 334 (ANO-2), 235 (Grand Gulf), and 215 (River Bend).
Brief Description of Amendments | The amendments revised Arkansas Nuclear One, Unit 2 (ANO-2) Technical Specification (TS) Definitions 1.9, and 1.11 for Channel Calibration and Channel Functional Test, respectively; Grand Gulf Nuclear Station, Unit 1 (Grand Gulf) TS Definition 1.1 for Channel Calibration, Channel Functional Test, and Logic System Functional Test; and River Bend Station, Unit 1 (River Bend) TS Definition 1.1 for Channel Calibration, Channel Functional Test, and Logic System Functional Test. The proposed changes aligned the ANO-2, Grand Gulf, and River Bend TS definitions with the definitions in Technical Specifications Task Force (TSTF) Traveler TSTF-205-A, Revision 3, “Revision of Channel Calibration, Channel Functional Test, and Related Definitions.”
Public Comments Received as to Proposed NSHC (Yes/No) | No.
Entergy Operations, Inc., System Energy Resources, Inc., Cooperative Energy, A Mississippi Electric Cooperative, and Entergy Mississippi, LLC; Grand Gulf Nuclear Station, Unit 1; Claiborne County, MS
Docket No | 50-416.
Amendment Date | July 29, 2024.
ADAMS Accession No | ML24172A250.
Amendment No | 233.
Brief Description of Amendment | The amendment revised the Grand Gulf Nuclear Station, Unit 1, Renewed Facility Operating License No. NPF-29 to add a new license condition to allow for the implementation of 10 CFR 50.69, “Risk-informed categorization and treatment of structures, systems and components for nuclear power reactors.”
Public Comments Received as to Proposed NSHC (Yes/No) | No.
Entergy Operations, Inc., System Energy Resources, Inc., Cooperative Energy, A Mississippi Electric Cooperative, and Entergy Mississippi, LLC; Grand Gulf Nuclear Station, Unit 1; Claiborne County, MS
Docket No | 50-416.
Amendment Date | July 29, 2024.
ADAMS Accession No | ML24176A120.
Amendment No | 234.
Brief Description of Amendment | The amendment modified the Grand Gulf Nuclear Station, Unit 1, technical specification requirements to permit the use of risk-informed completion times in accordance with Technical Specifications Task Force (TSTF) Traveler TSTF-505, Revision 2, “Provide Risk-Informed Extended Completion Times—RITSTF [Risk-Informed TSTF] Initiative 4b.” The NRC staff issued a final model safety evaluation TSTF-505, Revision 2, on November 21, 2018.
Public Comments Received as to Proposed NSHC (Yes/No) | No.
Entergy Operations, Inc.; Waterford Steam Electric Station, Unit 3; St. Charles Parish, LA
Docket No | 50-382.
Amendment Date | August 7, 2024.
ADAMS Accession No | ML24164A251.
Amendment No | 271.
Brief Description of Amendment | The amendment revised Surveillance Requirement (SR) 4.3.1.3, listed in Technical Specification (TS) 3.3.1, “Reactor Protective Instrumentation,” and SR 4.3.2.3, listed in TS 3.3.2, “Engineered Safety Features Actuation System Instrumentation,” to remove conflicting language that should have been removed as part of the Waterford Steam Electric Station, Unit 3 license amendment request to adopt Technical Specifications Task Force (TSTF) Traveler TSTF-425 (ADAMS Accession No. ML15170A121), which relocated specific surveillance frequencies to the surveillance frequency control program.
Public Comments Received as to Proposed NSHC (Yes/No) | No.
Indiana Michigan Power Company; Donald C. Cook Nuclear Plant, Unit 1; Berrien County, MI
Docket No | 50-315.
Amendment Date | July 25, 2024.
ADAMS Accession No | ML24169A214.
Amendment No | 362.
Brief Description of Amendment | The amendment revised the technical specifications (TSs) by adding the Completion Time requirement “Immediately” to TS 3.4.12, “Low Temperature Overpressure Protection (LTOP) System,” Actions Table to Condition F, Required Action F.2.
Public Comments Received as to Proposed NSHC (Yes/No) | No.
TMI-2 Solutions, LLC; Three Mile Island Unit 2; Londonderry Township, Dauphin County, PA
Docket No(s) | 50-320.
Amendment Date | August 9, 2024.
ADAMS Accession No | ML24135A327 (Package).
Amendment No | 68.
Brief Description of Amendment | The NRC issued TMI-2 Solutions, LLC (TMI-2S) Amendment No. 68 to Possession-Only License Demonstration Power Reactor (DPR) -73. The amendment allows TMI-2S to conduct certain decommissioning activities at TMI-2 that were not previously addressed in the staff's environmental reviews (site-specific impacts to historic and cultural resources).
Public Comments Received as to Proposed NSHC (Yes/No) | No.
Virginia Electric and Power Company; Surry Power Station, Unit Nos. 1 and 2; Surry County, VA
Docket Nos | 50-280, 50-281.
Amendment Date | July 17, 2024.
ADAMS Accession No | ML24165A278.
Amendment Nos | 318 (Unit 1), 318 (Unit 2).
Brief Description of Amendments | The amendments revised technical specifications (TSs) to add low head safety injection (LHSI) flow indication as required accident monitoring instrumentation. The addition of LHSI flow instrumentation to the TSs is due to reclassification of the variable from a Type D Category 2 variable to a Type A Category 1 variable per Regulatory Guide 1.97, Revision 3, “Criteria for Accident Monitoring Instrumentation for Nuclear Power Plants.”
Public Comments Received as to Proposed NSHC (Yes/No) | No.
Vistra Operations Company LLC; Comanche Peak Nuclear Power Plant, Unit Nos. 1 and 2; Somervell County, TX
Docket Nos | 50-445, 50-446.
Amendment Date | August 7, 2024.
ADAMS Accession No | ML24177A269.
Amendment Nos | 188 (Unit 1),188 (Unit 2).
Brief Description of Amendments | The amendments revised technical specifications to adopt Technical Specifications Task Force (TSTF) Traveler TSTF-591, “Revise Risk Informed Completion Time (RICT) Program.”
Public Comments Received as to Proposed NSHC (Yes/No) | No.

IV. Notice of Issuance of Amendment to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

In circumstances where failure to act in a timely way would have resulted, for example, in derating or shutdown of a nuclear power plant or in prevention of either resumption of operation or of increase in power output up to the plant's licensed power level (an emergency situation), the Commission may not have had an opportunity to provide for public comment on its NSHC determination. In such case, the license amendment has been issued without opportunity for comment prior to issuance. Nonetheless, the State has been consulted by telephone whenever possible.

Under its regulations, the Commission may issue and make an amendment immediately effective, notwithstanding the pendency before it of a request for a hearing from any person, in advance of the holding and completion of any required hearing, where it has determined that NSHC is involved. The Commission has applied the standards of 10 CFR 50.92 and has made a final determination that the amendments involve NSHC. The basis for this determination is contained in the NRC staff safety evaluation related to each action. Accordingly, the amendment has been issued and made effective as indicated.

For those amendments that involve an emergency situation, the Commission is now providing an opportunity to comment on the final NSHC determination for each action; comments should be submitted in accordance with Section I of this notice within 30 days of the date of this notice. Any comments received within 30 days of the date of publication this notice will be considered.

For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance—Emergency Circumstances
Southern Nuclear Operating Company, Inc.; Vogtle Electric Generating Plant, Unit 1; Burke County, GA
Docket No | 50-424.
Amendment Date | July 23, 2024.
ADAMS Accession No | ML24204A072.
Amendment No | 225.
Brief Description of Amendment | The amendment revised Technical Specification (TS) 3.7.9, “Ultimate Heat Sink,” to allow a 92-day Completion Time for Required Action D.2 for an inoperable Nuclear Service Cooling Water (NSCW) basin transfer pump. The TS changes would be a one-time change and in effect only until September 9, 2024, during Vogtle Unit 1 Cycle 25 (1R25). The change also includes a Required Action D.2 Note which prevents Application of limiting conditions for operation 3.0.4.a and b for entry into MODE 4 following 1R25 unless repairs to the 1A NSCW transfer pump have been completed. The license amendment is issued under emergency circumstances as described in the provisions of 10 CFR 50.91(a)(5) due to the time critical nature of the amendment.
Local Media Notice (Yes/No) | No.
Public Comments Requested as to Proposed NSHC (Yes/No) | No.

V. Previously Published Notice of Consideration of Issuance of Amendments to Facility Operating Licenses and Combined Licenses, Proposed No Significant Hazards Consideration Determination, and Opportunity for a Hearing

The following notice was previously published as separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request(s)—Repeat of Individual Federal Register Notice
Southern Nuclear Operating Company, Inc.; Joseph M. Farley Nuclear Plant, Units 1 and 2; Houston County, AL
Docket Nos | 50-364, 50-348.
Application Date | July 18, 2024.
ADAMS Accession No | ML24201A108.
Brief Description of Amendments | The NRC is considering issuance of an amendment to Facility Operating License No. NPF-2 and NPF-8, issued to Southern Nuclear Operating Company, Inc. (SNC, the licensee), for operation of the Joseph M. Farley Nuclear Plant, (Farley) Units 1 and 2. The requested amendment would revise the operating license, Appendix A, Technical Specification (TS) 3.6.5, “Containment Air Temperature,” actions upon exceeding the containment average air temperature limit of 120 degrees Fahrenheit (°F) and remove an expired Note provision. Specifically, the proposed amendment would revise TS 3.6.5 Required Actions and Completion Time A.1, add Required Actions and Completion Times A.2 and A.3, as well as remove an expired Note in TS 3.6.5 Limiting Conditions for Operation.
Date and Citation of Federal Register Individual Notice | July 29, 2024; 89 FR 60930.
Expiration Dates for Public Comments & Hearing Requests | August 28, 2024 (Public Comments) and September 27, 2024 (Hearing Requests).

Dated: August 27, 2024.
For the Nuclear Regulatory Commission.
Aida Rivera-Varona,
Deputy Director, Division of Operating Reactor Licensing, Office of Nuclear Reactor Regulation.

[FR Doc. 2024-19687 Filed 8-30-24; 8:45 am]

BILLING CODE 7590-01-P